SMALL BUSINESS ADMINISTRATION

[Disaster Declaration #21039; VIRGINIA Disaster Number VA-20018 Declaration of Economic Injury]

Administrative Declaration of an Economic Injury Disaster for the Commonwealth of Virginia

AGENCY: U.S. Small Business Administration.

ACTION: Notice.

SUMMARY: This is a notice of an Economic Injury Disaster Loan (EIDL) declaration for the Commonwealth of Virginia dated April 9, 2025.

Incident: Severe Winter Storms resulting in Power Outage and Boil Water Advisory.

DATES: Issued on April 9, 2025.

Incident Period: January 5, 2025 through January 11, 2025.

Economic Injury (EIDL) Loan Application Deadline Date: January 9, 2026.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Goochland, Hanover, Henrico, Richmond City.

Contiguous Counties:

Virginia: Caroline, Charles City, Chesterfield, Cumberland, Fluvanna, King William, Louisa, New Kent, Powhatan, Spotsylvania.

The Interest Rates are:

| Percent
Business and Small Agricultural Cooperatives without Credit Available Elsewhere | 4.000
Non-Profit Organizations without Credit Available Elsewhere | 3.625

The number assigned to this disaster for economic injury is 210390.

The Commonwealth which received an EIDL Declaration is Virginia.

(Catalog of Federal Domestic Assistance Number 59008)

James Stallings,
Associate Administrator, Office of Disaster Recovery & Resilience.

[FR Doc. 2025-06355 Filed 4-14-25; 8:45 am]

BILLING CODE 8026-09-P